DEPARTMENT OF ENERGY

Federal Energy Regulatory Commission

[Docket No. RP00-533-009]

Algonquin Gas Transmission Company; Notice of Compliance Filing

January 30, 2004.

Take notice that on January 21, 2004, Algonquin Gas Transmission Company (Algonquin) tendered for filing as part of its FERC Gas Tariff, Fourth Revised Volume No. 1, the following tariff sheets, to become effective March 4, 2003:

Second Sub Second Revised Sheet No. 632

Second Sub Fourth Revised Sheet No. 633

Third Sub First Revised Sheet No. 634

Second Sub Fourth Revised Sheet No. 800

Second Sub Fourth Revised Sheet No. 810

Second Sub Fourth Revised Sheet No. 820

Second Sub Fourth Revised Sheet No. 830

Second Sub Second Revised Sheet No. 900

Second Sub Tenth Revised Sheet No. 940

Algonquin states that the filing is being made to comply with the Commission's Order issued on December 22, 2003, in the above captioned proceeding.

Algonquin states that copies of the filing have been served upon all affected customers, interested state commissions, and all parties on the Commission's official service list in this proceeding.

Any person desiring to protest said filing should file a protest with the Federal Energy Regulatory Commission, 888 First Street, NE., Washington, DC 20426, in accordance with section 385.211 of the Commission's Rules and Regulations. All such protests must be filed in accordance with section 154.210 of the Commission's Regulations. Protests will be considered by the Commission in determining the appropriate action to be taken, but will not serve to make protestants parties to the proceedings. This filing is available for review at the Commission in the Public Reference Room or may be viewed on the Commission's Web site at http://www.ferc.gov using the eLibrary link. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the e-Filing link.

Magalie R. Salas,
Secretary.

[FR Doc. E4-202 Filed 2-5-04; 8:45 am]

BILLING CODE 6717-01-P